DEPARTMENT OF HEALTH AND HUMAN SERVICES

National Institutes of Health

Clinical Center; Amended Notice of Meeting

Notice is hereby given of change in the meeting of the NIH Advisory Board for Clinical Research, January 31, 2005, 2 p.m. to January 31, 2005, 5 p.m., National Institutes of Health, Building 10, 10 Center Drive, Medical Board Room 2C116, Bethesda, MD 20892 which was published in the Federal Register on January 12, 2005, 70 FR 2177.

The open session will start from 10 a.m.-2 p.m. The closed session will be held from 2 p.m. until adjournment. The meeting will be held in Room 4-2551, CRC Medical Board Room. The meeting is partially Closed to the public.

Dated: January 27, 2005.
Anna Snouffer,
Deputy Director, Office of Federal Advisory Committee Policy.

[FR Doc. 05-1884 Filed 1-27-05; 4:53 pm]

BILLING CODE 4140-01-P